DEPARTMENT OF TRANSPORTATION

Office of the Secretary

Aviation Proceedings, Agreements filed during the week ending January 14, 2000

The following Agreements were filed with the Department of Transportation under the provisions of 49 U.S.C. sections 412 and 414. Answers may be filed within 21 days after the filing of the application.

Docket Number: OST-2000-6774.

Dated Filed: January 10, 2000.

Parties: Members of the International Air Transport Association.

Subject: PSC/Reso/102 dated December 16, 1999.

Finally Adopted Resos/Recommended Practices r1-49 Minutes—PSC/Minutes/012 dated December 16, 1999.

Intended effective date: June 1, 2000.

Docket Number: OST-2000-6786.

Dated Filed: January 11, 2000.

Parties: Members of the International Air Transport Association.

Subject: PTC3 0403 dated 7 January 2000.

Mail Vote 059—Resolution 070tt—TC3 Excursion Fares between South East Asia and South Asian Subcontinent.

Intended effective date: 1 April 2000.

Dorothy W. Walker,
Federal Register Liaison.

[FR Doc. 00-1728 Filed 1-24-00; 8:45 am]

BILLING CODE 4910-62-P